DEPARTMENT OF STATE

[Public Notice 5831]

Culturally Significant Objects Imported for Exhibition Determinations: “Louvre Atlanta: The Louvre and the Ancient World; Eye of Josephine; and Houdon in France and America”

Summary: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition Louvre Atlanta: The Louvre and The Ancient World; Eye of Josephine; and Houdon in France and America,” imported from abroad for temporary exhibition within the United States, are of cultural significance. The objects are imported pursuant to a loan agreement with the foreign owner or custodian. I also determine that the exhibition or display of The Louvre and The Ancient World exhibit objects at the High Museum of Art, Atlanta, Georgia, from on or about October 16, 2007, until on or about September 7, 2008; the exhibition or display of the Eye of Josephine exhibit objects at the High Museum of Art, Atlanta, Georgia, from on or about October 16, 2007, until on or about May 18, 2008; and the exhibition or display of the Houdon in France and America objects at the High Museum of Art, Atlanta, Georgia, from on or about June 7, 2008 until on or about September 7, 2008, and the Denver Art Museum, Denver, Colorado, from on or about October 12, 2008, until on or about January 4, 2009; and at possible additional exhibitions or venues yet to be determined, is in the national interest. Public Notice of these Determinations is ordered to be published in the Federal Register.

For Further Information Contact: For further information, including a list of the exhibit objects, contact Wolodymyr Sulzynsky, Attorney-Adviser, Office of the Legal Adviser, U.S. Department of State (telephone: (202) 453-8050). The address is U.S. Department of State, SA-44, 301 4th Street, SW., Room 700, Washington, DC 20547-0001.

Dated: June 5, 2007.
C. Miller Crouch,
Principal Deputy Assistant Secretary for Educational and Cultural Affairs, Department of State.

[FR Doc. E7-11403 Filed 6-12-07; 8:45 am]

BILLING CODE 4710-05-P